DEPARTMENT OF TRANSPORTATION

Federal Aviation Administration

14 CFR Part 39

[FAA Rules Docket No. 90-CE-35-AD]

RIN 2120-AA64

Airworthiness Directives; Textron Aviation Inc. (Type Certificate previously held by Cessna Aircraft Company) Airplanes

AGENCY: Federal Aviation Administration (FAA), DOT.

ACTION: Proposed rule; withdrawal.

SUMMARY: The FAA is withdrawing a notice of proposed rulemaking (NPRM) and supplemental notice of proposed rulemaking (SNPRM) that proposed to supersede airworthiness directive (AD) 72-14-08 R1 for Cessna Aircraft Company (now Textron Aviation Inc.) Models 310, 320, 401, 402, 411, and 421 airplanes. AD 72-14-08 R1 requires repetitively inspecting the fuel and oil flexible hose lines for leakage or evidence of any damaged or deteriorated hose assembly on the above-referenced airplanes and replacing any discrepant part. Since issuance of the SNPRM, the FAA has not received any reports of fuel and oil flexible hose lines that leak or are damaged and has determined that the repetitive inspections required by AD 72-14-08 R1 address the unsafe condition. Accordingly, the NPRM and SNPRM are withdrawn.

DATES: As of February 22, 2021, the proposed rules, which published in the Federal Register on October 23, 1990 (55 FR 42726), and October 22, 1998 (63 FR 56579), are withdrawn.

FOR FURTHER INFORMATION CONTACT: Jeff Janusz, Supervisory Aviation Safety Specialist, Wichita ACO Branch, FAA, 1801 Airport Road, Wichita, Kansas 67209; phone: 316-946-4148; fax: 316-946-4107; email: jeff.janusz@faa.gov or Wichita-COS@faa.gov.

SUPPLEMENTARY INFORMATION:

Discussion

The FAA issued an NPRM that proposed to amend part 39 of the Federal Aviation Regulations (14 CFR part 39) to supersede AD 72-14-08R1, Amendment 39-4215 (46 FR 45597, September 14, 1981) (AD 72-14-08 R1), which applies to Cessna Aircraft Company Models 310, 320, 401, 402, 411, and 421 series airplanes. The current type certificate holder for these airplanes is Textron Aviation Inc. The NPRM published in the Federal Register on October 23, 1990 (55 FR 42726). The FAA subsequently issued an SNPRM, which published on October 22, 1998 (63 FR 56579). The NPRM and SNPRM proposed to:

• Initially retain the requirement of repetitively inspecting the fuel and oil flexible hose lines for leakage or evidence of any damaged or deteriorated hose assembly on all of the affected airplanes, and replacing any discrepant part; and

• eventually require, regardless if damage or deterioration was found, replacing the fuel and oil flexible hose assemblies in the engine compartment with an improved design hose assembly as terminating action for the repetitive inspection requirement. For some models, the replacement would have been mandatory and for others it would have been an option instead of continuing the repetitive inspections.

Actions Since the SNPRM Was Issued

Since issuance of the SNPRM, FAA has not received any reports of fuel and oil flexible hose lines that leak or are damaged and has determined that the repetitive inspections required by AD 72-14-08 R1 address the unsafe condition. Therefore, the FAA determined that further AD action is not warranted and the proposals should be withdrawn.

Withdrawal of the NPRM and SNPRM constitutes only such action and does not preclude the agency from issuing future rulemaking on this issue, nor does it commit the agency to any course of action in the future.

Regulatory Findings

Since this action only withdraws an NPRM and SNPRM, it is neither a proposed nor a final rule and therefore, not covered under Executive Order 12866 or the Regulatory Flexibility Act.

List of Subjects in 14 CFR Part 39

Air transportation, Aircraft, Aviation safety, Incorporation by reference, Safety.

The Withdrawal

Accordingly, the notice of proposed rulemaking, which published in the Federal Register on October 23, 1990 (55 FR 42726), and the supplemental notice of proposed rulemaking, which published in the Federal Register on October 22, 1998 (63 FR 56579), are withdrawn.

Issued on January 20, 2021.
Lance T. Gant,
Director, Compliance & Airworthiness Division, Aircraft Certification Service.

[FR Doc. 2021-01771 Filed 2-19-21; 8:45 am]

BILLING CODE 4910-13-P